DEPARTMENT OF VETERANS AFFAIRS

Joint Biomedical Laboratory Research and Development and Clinical Science Research and Development Services Scientific Merit Review Board; Notice of Meetings

The Department of Veterans Affairs (VA) gives notice under Public Law 92-463; Title 5 U.S.C. App. 2 (Federal Advisory Committee Act) that the subcommittees of the Joint Biomedical Laboratory Research and Development and Clinical Science Research and Development Services Scientific Merit Review Board (JBL/CS SMRB) will meet from 8 a.m. to 5 p.m. on the dates indicated below (unless otherwise listed):

Subcommittee | Date | Location
Infectious Diseases—B | May 18, 2017 | Hilton Crystal City—Reagan National Airport.
Nephrology | May 18, 2017 | Hilton Crystal City—Reagan National Airport.
Hematology | May 19, 2017 | Hyatt Regency Washington.
Oncology—A/D | May 19, 2017 | Hyatt Regency Washington.
Cellular & Molecular Medicine | May 22, 2017 | Hilton Crystal City—Reagan National Airport.
Endocrinology—B | May 22, 2017 | Hilton Crystal City—Reagan National Airport.
Neurobiology—C | May 23, 2017 | Hilton Crystal City—Reagan National Airport.
Oncology—B | May 24 2017 | Hilton Crystal City—Reagan National Airport.
Surgery | May 24 2017 | Hilton Crystal City—Reagan National Airport.
Cardiovascular Studies—A | May 25, 2017 | Hilton Crystal City—Reagan National Airport.
Infectious Diseases—A | May 25, 2017 | Hilton Crystal City—Reagan National Airport.
Oncology—C | May 25 2017 | Hilton Crystal City—Reagan National Airport.
Immunology & Dermatology—A | May 31, 2017 | Hilton Crystal City—Reagan National Airport.
Neurobiology—B | May 31, 2017 | Hyatt Regency Washington.
Oncology—E | May 31, 2017 | Hyatt Regency Washington.
Gulf War Research | June 1, 2017 | * VA Central Office.
Pulmonary Medicine | June 1, 2017 | Hyatt Regency Washington.
Endocrinology—A | June 2, 2017 | Hyatt Regency Washington.
Neurobiology—A | June 2, 2017 | Hyatt Regency Washington.
Neurobiology—E | June 2, 2017 | Hyatt Regency Washington.
Gastroenterology | June 6, 2017 | Hilton Crystal City—Reagan National Airport.
Mental Health & Behavioral Sciences—A | June 7, 2017 | Hilton Crystal City—Reagan National Airport.
Neurobiology—F | June 7, 2017 | * VA Central Office.
Cardiovascular Studies—B | June 8, 2017 | Hyatt Regency Washington.
Mental Health & Behavioral Sciences—B | June 8, 2017 | Hyatt Regency Washington.
Epidemiology | June 8, 2017 | * VA Central Office.
Neurobiology—D | June 9, 2017 | Hyatt Regency Washington.
Special Emphasis Panel on Million Veteran Prog Proj | July 11-12, 2017 | Hilton Crystal City—Reagan National Airport.
Eligibility | July 17, 2017 | Hilton Crystal City—Reagan National Airport.
The addresses of the meeting sites are: Hilton Crystal City—Reagan National Airport, 2399 Jefferson Davis Hwy., Arlington, VA; Hyatt Regency Washington on Capitol Hill, 400 New Jersey Avenue NW., Washington, DC; VA Central Office, 1100 First Street NE., Suite 600, Washington, DC.
* Teleconference

The purpose of the subcommittees is to provide advice on the scientific quality, budget, safety and mission relevance of investigator-initiated research proposals submitted for VA merit review evaluation. Proposals submitted for review include various medical specialties within the general areas of biomedical, behavioral and clinical science research.

These subcommittee meetings will be closed to the public for the review, discussion, and evaluation of initial and renewal research proposals, which involve reference to staff and consultant critiques of research proposals. Discussions will deal with scientific merit of each proposal and qualifications of personnel conducting the studies, the disclosure of which would constitute a clearly unwarranted invasion of personal privacy. Additionally, premature disclosure of research information could significantly obstruct implementation of proposed agency action regarding the research proposals. As provided by subsection 10(d) of Public Law 92-463, as amended by Public Law 94-409, closing the subcommittee meetings is in accordance with Title 5 U.S.C. 552b(c)(6) and (9)(B).

Those who would like to obtain a copy of the minutes from the closed subcommittee meetings and rosters of the subcommittee members should contact Holly Krull, Ph.D., Manager, Merit Review Program (10P9B), Department of Veterans Affairs, 810 Vermont Avenue NW., Washington, DC 20420, at (202) 632-8522 or email at holly.krull@va.gov.

Dated: April 5, 2017.
LaTonya L. Small,
Advisory Committee Management Officer.

[FR Doc. 2017-07125 Filed 4-7-17; 8:45 am]

BILLING CODE